DEPARTMENT OF DEFENSE

Department of the Navy

Notice of Availability of Record of Decision for the Hawaiian Islands and Southern California Training and Testing Final Environmental Impact Statement/Overseas Environmental Impact Statement

AGENCY: Department of the Navy, DoD.

ACTION: Notice.

SUMMARY: The United States Department of the Navy (DoN), after carefully weighing the strategic, operational, and environmental consequences of the Proposed Action, announces its decision to conduct training and testing activities as identified in Alternative 1 of the Hawaii-Southern California Training and Testing (HSTT) Final Environmental Impact Statement (EIS)/Overseas Environmental Impact Statement (OEIS) dated October 2018. Under Alternative 1, the DoN will be able to meet current and future DoN training and testing requirements.

SUPPLEMENTARY INFORMATION: Alternative 1 is the DoN's preferred alternative, and is representative of training to account for the natural fluctuations of training cycles, deployment schedules, and use of synthetic training opportunities. Alternative 1 also includes an annual level of testing that reflects the fluctuations in DoN testing programs. The complete text of the Record of Decision (ROD) for the HSTT FEIS/OEIS is available on the project website at http://hstteis.com, along with the October 2018 HSTT FEIS/OEIS and supporting documents. Single copies of the ROD are available upon request by contacting: Naval facilities Engineering Command Pacific, Attn: Code EV21 (HSTT EIS/OEIS Project Manager), 258 Makalapa Drive, Suite 100, Pearl Harbor, HI 96860-3134.

Dated: December 18, 2018.
Meredith Steingold Werner,
Commander, Judge Advocate General's Corps, U.S. Navy, Federal Register Liaison Officer.

[FR Doc. 2018-27811 Filed 12-21-18; 8:45 am]

BILLING CODE 3810-FF-P